DEPARTMENT OF TRANSPORTATION

Federal Highway Administration

Environmental Impact Statement; Glacier County, Montana

AGENCY: Federal Highway Administration, (FHWA), DOT.

ACTION: Notice of intent.

SUMMARY: The FHWA hereby gives notice that it intends to prepare an environmental impact statement (EIS) for a corridor study to evaluate development of a highway between Browning, Montana and the Hudson Divide in Glacier County, Montana. Access to the area is currently provided by US 89 and the study will evaluate improvements to the existing highway and all practicable alignment alternatives.

FOR FURTHER INFORMATION CONTACT: Dale Paulson, Program Development Engineer, Federal Highway Administration, 2880 Skyway Drive, Helena, MT 59602; Telephone: (406) 449-5303 ext. 239; or Joel M. Marshik, Manager, Environmental Services and Tribal Liaison, Montana Department of Transportation, 2701 Prospect Avenue, Helena, Montana 59602; Telephone: (4060 444-7632.

SUPPLEMENTARY INFORMATION:

Electronic Access

An electronic copy of this document may be downloaded using a modem and suitable communications software from the Government Printing Office's Electronic Bulletin Board Service at (202) 512-1661. Internet users may reach the Office of the Federal Register's home page at: http://www/nara.gov./fedreg and the Government Printing Office's database at: http://www.access.gpo.gov.nara.

Background

The FHWA, in cooperation with the Montana Department of Transportation (MDT), will prepare an EIS to acquire land, design, and construct a new or improved US 89 between Browning, Montana and the Hudson Bay Divide. The EIS will examine the short and long-term impacts on the natural and physical environment. The impact assessment will include, but not be limited to, impacts on wetlands, wildlife, and fisheries; social environment; changes in land use; aesthetics; changes in traffic; and economic impacts. Environmental Justice (as outlined in Executed Order 12898) will also be addressed as part of the impact assessment. The EIS will also examine measures to mitigate significant adverse impacts resulting from the proposed action.

Comments are being solicited from appropriate Federal, State, and local agencies and from private organizations and citizens who have interest in this proposal. Public information meetings will be held in the project area to discuss the potential alignments. The draft EIS will be available for public and agency review; and a public hearing will be held to receive comments. Public notice will be given of the time and place of all meetings and hearings.

Comments and/or suggestions from all interested parties are requested, to ensure that the full range of all issues, and significant environmental issues in particular, are identified and reviewed. Comments or questions concerning this proposed action and/or its EIS should be directed to the FHWA or the MDT at the addresses listed previously.

(Catalog of Federal Domestic Assistance Program Number 20.205, Highway Planning and Construction. The regulations implementing Executive Order 12372 regarding intergovernmental consultation on Federal programs and activities apply to this proposed action)

Authority: 23 U.S.C. 315; 49 CFR 1.48.

Issued on: January 11, 2000.
Dale Paulson,
Program Development Engineer, FHWA.

[FR Doc. 1435 Filed 1-20-00; 8:45 am]

BILLING CODE 4910-22-M